DEPARTMENT OF JUSTICE

Notice of Lodging of First Material Modification to a Consent Decree Pursuant to the Clean Air Act

Notice is hereby given that on June 9, 2010, a proposed First Material Modification to the Consent Decree entered in United States and the State of Kansas v. Coffeyville Resources Refining & Marketing, LLC et al., 04-cv-01064 (D. Kan. 2004), was lodged with the United States Court for the District of Kansas.

The Consent Decree, entered by the Court on July 13, 2004 (Docket No. 8), required Defendants to install certain air pollution controls to reduce emissions of oxides, sulfur dioxide and particulate matter at their oil refinery located in Coffeyville, Kansas by December 31, 2010. Under the proposed First Material Modification to the Consent Decree, the United States and State grant Defendants a fifteen month extension on installation of some of the controls and the Defendants agree to specified measures that will reduce the subject emissions by more than the amount of excess emissions caused by the delay installing the controls.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States and State of Kansas v. Coffeyville Resources Refining & Marketing, LLC et. al., 04-cv-01064 (D. Kan. 2004) and DOJ Case No. 90-5-2-1-07459/1.

During the public comment period, the First Material Modification to the Consent Decree may be examined at the Office of the United States Attorney, District of Kansas, 500 State Ave., Suite 360, Kansas City, KS 66101, (913) 551-6730. The First Material Modification to the Consent Decree may also be examined on the following Department of Justice Web site, http://www.usdoj.gov/enrd/Consent_Decrees.html. A copy of the First Material Modification to the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.25 (25 cents per page reproduction cost) payable to the U.S. Treasury.

Maureen Katz,
Assistant Section Chief.

[FR Doc. 2010-14308 Filed 6-14-10; 8:45 am]

BILLING CODE 4410-15-P